DEPARTMENT OF ENERGY

Federal Energy Regulatory Commission

[Docket No. RP04-360-000]

Maritimes and Northeast Pipeline, L.L.C; Notice of Telephone Technical Conference

October 6, 2004.

In an order issued on July 29, 2004,¹ the Commission directed staff to convene a technical conference to discuss Maritimes and Northeast Pipeline, L.L.C.'s proposed non-rate modifications to its tariff including, but not limited to, revisions to the fuel retainage percentage, revisions to the right of first refusal, and the proposed action alert. The technical conference was held on September 22, 2004.

¹ Maritimes and Northeast Pipeline, L.L.C., 108 FERC ¶ 61,087 (2004).

A telephone technical conference will be held on Wednesday, October 13, 2004, beginning at 10 a.m. (EST) to further discuss issues concerning Maritimes' proposed modifications to its right of first refusal procedures, action alert, and accounting for its fuel tracker. The telephone number for the conference is 888-412-7888. The code is 2360313.

All interested parties and staff are permitted to call in. For further information please contact: David Faerberg at (202) 502-8275 or e-mail david.faerberg@ferc.gov.

Magalie R. Salas,
Secretary.

[FR Doc. E4-2614 Filed 10-14-04; 8:45 am]

BILLING CODE 6717-01-P